DEPARTMENT OF THE INTERIOR

Bureau of Indian Affairs

Certificate of Degree of Indian or Alaska Native Blood Information Collection

AGENCY: Bureau of Indian Affairs, Interior.

ACTION: Proposed agency information collection activities; comment request.

SUMMARY: The Bureau of Indian Affairs is seeking comments from the public on an extension of an information collection from persons seeking proof of American Indian or Alaska Native blood, as required by the Paperwork Reduction Act. The information collected under OMB Control Number 1076-0153 will be used to establish that the applicants meet requirements for official recognition as an American Indian or Alaska native for purposes of eligibility determination and participation in programs administered through the U.S. Bureau of Indian Affairs.

DATES: Submit comments on or before March 14, 2006.

ADDRESSES: Written comments can be sent to Ms. Carolyn Newman, Tribal Enrollment Specialist, Division of Tribal Government Services, Office of Tribal Services, Bureau of Indian Affairs, 1951 Constitution Avenue NW., Mail Stop: 320-SIB, Washington, DC 20240.

FOR FURTHER INFORMATION CONTACT: Ms. Carolyn Newman, Tribal Enrollment Specialist, 202-513-7641.

SUPPLEMENTARY INFORMATION: This collection was originally approved and assigned OMB Control No. 1076-0153 when it was submitted with a proposed rulemaking, 25 CFR Part 70, which was published in the Federal Register on April 18, 2000 (66 FR 20775). The proposed rulemaking has not been finalized due to various reasons. We received numerous negative comments from individuals and Indian tribal governments. We, therefore, are rewriting the proposed rule. The Bureau of Indian Affairs, through the development of the proposed rule, is attempting to bring its decision-making procedures regarding the issuance of CDIB forms in line with the Administrative Procedures Act, 5 U.S.C. 553, as mandated by section 552, and as directed in the 1986 decision of the Interior Board of Indian Appeals (IBIA), Office of Hearings and Appeals, U.S. Department of the Interior, in Morgan Underwood, Sr. v. Deputy Assistant Secretary—Indian Affairs (Operations), 93 I.D. 13, 11 IBIA 3 (IBIA, January 31, 1986). However, there is legal support for the information collection in that currently existing Federal laws and regulations require some form of proof of Indian blood for various purposes, including ownership of lands held in trust by the United States for benefit of Indian landowners who are members of federally-recognized Indian tribes (including Alaska Native villages), especially at those locations where the Indian tribe or Alaska native village has minimum Indian blood degree requirements for membership.

The public is advised that an agency may not conduct or sponsor, and a person is not required to respond to, a collection of information that does not display a valid OMB clearance number. For example, this collection is listed by OMB as Control No. 1076-0153, and it expires 7/31/2006. The response is voluntary to obtain or retain a benefit.

We are requesting comments about the proposed collection to evaluate:

(a) The accuracy of the burden hours, including the validity of the methodology used and assumptions made;

(b) The necessity of the information for proper performance of the bureau functions, including its practical utility;

(c) The quality, utility, and clarity of the information to be collected; and,

(d) Suggestions to reduce the burden including use of automated, electronic, mechanical, or other forms of information technology.

Please submit your comments to the person listed in the ADDRESSES section. Please note that comments, names and addresses of commentators, are open for public review during the hours of 8 a.m. to 4:30 p.m., EST, Monday through Friday except for legal holidays. If you wish your name and address withheld, you must state this prominently at the beginning of your comments. We will honor your request to the extent allowable by law.

Information Collection Abstract

OMB control number: 1076-0153.

Type of review: Renewal.

Title: 25 CFR 70, Request for Certificate of Degree of Indian or Alaska Native Blood.

Brief description of collection: To establish that individual Indians may be eligible to receive program services based upon their status and/or degree of Indian or Alaska Native blood.

Affected Entities: Individual Indian Applicants.

Estimated number of respondents: 154,980.

Estimated time per response: 1.5.

Number of Annual Responses: 154,980.

Total annual burden hours: 232,470 hours.

Dated: December 27, 2005.
Michael D. Olsen,
Acting Principal Deputy Assistant Secretary—Indian Affairs.

[FR Doc. E6-319 Filed 1-12-06; 8:45 am]

BILLING CODE 4310-02-P